NUCLEAR REGULATORY COMMISSION

[Docket No. 72-17]

Portland General Electric Independent Spent Fuel Storage Installation Issuance of Environmental Assessment and Finding of No Significant Impact Regarding a Proposed Exemption

AGENCY: Nuclear Regulatory Commission.

ACTION: Issuance of Environmental Assessment and Finding of No Significant Impact.

FOR FURTHER INFORMATION CONTACT: Christopher M. Regan, Senior Project Manager, Spent Fuel Project Office, Office of Nuclear Material Safety and Safeguards, U.S. Nuclear Regulatory Commission, Washington, DC 20555. Telephone: (301) 415-1179; Fax number: (301) 415-8555; E-mail: cmr1@nrc.gov.

SUPPLEMENTARY INFORMATION: The U.S. Nuclear Regulatory Commission (NRC) is considering issuance of an exemption, pursuant to 10 CFR 72.7, from the provisions of 10 CFR 72.44(d)(3), to the Portland General Electric Company (PGE, or the licensee). The requested exemption (in conjunction with a conforming license amendment) would relieve PGE from the requirement to submit an annual radioactive effluent report for the Trojan Independent Spent Fuel Storage Installation (ISFSI). PGE submitted the exemption request by letter dated July 6, 2005, in which it also requested an amendment to the Trojan ISFSI license. Specifically, the amendment requested the deletion of item c. and last sentence of item b., Section 5.5.2 of Technical Specification; “Radioactive Effluent Control Program” (Appendix A to License No. SNM-2509). The licensee is currently storing spent nuclear fuel at the Trojan ISFSI on the site of the decommissioned Trojan Nuclear Power Plant in Rainier, Oregon.

Environmental Assessment (EA)

I. Identification of Proposed Action

Portland General Electric (PGE) has requested an exemption and a conforming license amendment to obtain relief from the requirement to submit an annual radioactive effluent release report for the Trojan ISFSI in accordance with 10 CFR 72.44(d). The regulation requires a licensee to include Technical Specifications (TS) regarding radioactive effluents. Specifically, 10 CFR 72.44(d)(3) requires that an annual report be submitted to the NRC specifying the quantity of each of the principal radionuclides released to the environment in liquid and in gaseous effluents during the previous 12 months of ISFSI operation. The proposed action before the NRC is whether to grant the exemption.

In addition to the exemption, PGE has requested a conforming license amendment which will make two deletions from the Trojan ISFSI TS, Appendix A to the Special Nuclear Material License No. 2509 (SNM-2509). Section 5.5.2, Radioactive Effluent Control Program, item c., requires an annual report to be submitted pursuant to 10 CFR 72.44(d)(3). Section 5.5.2, item b., in the last sentence, of the Appendix A to the License No. SNM-2509 states: “The Trojan ISFSI may be included in the environmental monitoring program for the Trojan Nuclear Plant.” The amendment would delete these two TS.

The license amendment request is categorically excluded from the need for environmental review under 10 CFR 51.22(c)(10)(ii) and 10 CFR 51.22(c)(11).

II. Need for the Proposed Action

The requirements of 10 CFR 72.44(d)(3) impose certain regulatory obligations, with associated costs, on the licensee. Granting the requested exemption will relieve the licensee from the requirement to submit an annual radioactive effluent release report pursuant to 10 CFR 72.44(d)(3). The requirement to submit an annual radioactive effluent monitoring report is not needed for this facility in its current configuration and is an unnecessary administrative burden. Thus, the licensee will not have to incur the costs associated with preparing and submitting an annual radioactive effluent release report.

III. Environmental Impacts of the Proposed Action

In its Safety Evaluation Report related to the ISFSI license (Safety Evaluation Report Amendment No. 2 to the SNM-2509 License, October 23, 2002), the staff found that there are no credible scenarios by which liquid or gaseous effluents could be released from the dry shielded canister. The licensee further stated that any concerns over small quantities of gaseous or liquid effluent that may be produced during cask loading and transfer decontamination activities are no longer relevant, since all the spent fuel has been transferred to the ISFSI, and that the Holtec International (Holtec) Multi-Purpose Canister (MPC) used at the Trojan ISFSI is a passive system which, by design, produces no gaseous or liquid effluent.

The staff has determined that the proposed action would not endanger life or property. Further, the staff concludes that there is reasonable assurance that the proposed exemption will have no impact on off-site doses.

The proposed action would not increase the probability or consequences of accidents, no changes would be made to the passive system design resulting in the generation of effluents during fuel storage, and there would be no increase in occupational or public radiation exposure. Therefore, there are no significant radiological environmental impacts associated with the proposed action. Additionally, the proposed action would have no significant non-radiological impacts.

IV. Alternative to the Proposed Action

As an alternative to the proposed action, the staff considered denial of the exemption (i.e., the “no-action” alternative). Approval or denial of the exemption would result in no change in the environmental impacts. Therefore, the environmental impacts of the proposed action and the alternative action are similar.

V. Agencies and Persons Consulted

The NRC staff prepared this environmental assessment (EA); no other sources were used. On August 29, 2005, the staff discussed the EA by phone call with Mr. Adam Bless of the State of Oregon Department of Energy. The State of Oregon stated to the NRC that they had no comments related to the EA or the Finding of no Significant Impact. The NRC staff has determined that consultation under Section 7 of the Endangered Species Act is not required for this specific exemption, which will not affect listed species or critical habitat. The NRC staff has also determined that the proposed action is not a type of activity having the potential to cause effects on historic properties. Therefore, no consultation is required under Section 106 of the National Historic Preservation Act.

VI. Conclusions

The staff has reviewed the exemption request submitted by PGE and has determined that relieving the licensee from the requirement to submit an annual radioactive effluent release report pursuant to 10 CFR 72.44(d)(3) would have no significant impact on the environment.

Finding of No Significant Impact

The environmental impacts of the proposed action have been reviewed in accordance with the requirements set forth in 10 CFR part 51. Based upon the foregoing EA, the NRC finds that the proposed action of granting the exemption will not significantly impact the quality of the human environment. Accordingly, the NRC has determined that an environmental impact statement for the proposed exemption is not warranted.

Further Information

In accordance with 10 CFR 2.390 of NRC's “Rules of Practice,” final NRC records and documents regarding this proposed action, including the exemption request dated July 6, 2005, are publically available in the records component of NRC's Agencywide Documents Access and Management System (ADAMS). These documents may be inspected at NRC's Public Electronic Reading Room at http://www.nrc.gov/reading-rm/adams.html. These documents may also be viewed electronically on the public computers located at the NRC's Public Document Room (PDR), O1F21, One White Flint North, 11555 Rockville Pike, Rockville, MD 20852. The PDR reproduction contractor will copy documents for a fee. Persons who do not have access to ADAMS or who encounter problems in accessing the documents located in ADAMS, should contact the NRC PDR Reference staff by telephone at 1-800-397-4209 or (301) 415-4737, or by e-mail to pdr@nrc.gov.

Dated at Rockville, Maryland, this 12th day of September 2005.
For the Nuclear Regulatory Commission.
Robert J. Lewis,
Chief, Licensing Section, Spent Fuel Project Office, Office of Nuclear Material Safety and Safeguards.

[FR Doc. 05-18919 Filed 9-21-05; 8:45 am]

BILLING CODE 7590-01-P